ENVIRONMENTAL PROTECTION AGENCY

[ER-FRL-9018-4]

Environmental Impact Statements; Notice of Availability

Responsible Agency: Office of Federal Activities, General Information (202) 564-7146 or http://www.epa.gov/compliance/nepa/.

Weekly receipt of Environmental Impact Statements

Filed 12/1/2014 Through 12/5/2014

Pursuant to 40 CFR 1506.9.

Notice

Section 309(a) of the Clean Air Act requires that EPA make public its comments on EISs issued by other Federal agencies. EPA's comment letters on EISs are available at: http://www.epa.gov/compliance/nepa/eisdata.html.

EIS No. 20140347, Final EIS, FHWA, TN, SR-126 (Memorial Boulevard) Improvement Project from East Center Street to I-81, Review Period Ends: 01/12/2015, Contact: Theresa Claxton 615-781-5770.

EIS No. 20140348, Final EIS, FHWA, WI, Interstate 43 North-South Freeway Improvements, Contact: George Poirier 608-829-7500 Under MAP-21 Section 1319, FHWA has issued a single FEIS and ROD. Therefore, the 30-day wait/review period under NEPA does not apply to this action.

EIS No. 20140349, Final EIS, FHWA, MN, Trunk Highway 41 Minnesota River Crossing Tier I, Review Period Ends: 01/12/2015, Contact: Philip Forst 651-291-6100.

EIS No. 20140350, Final EIS, USFS, CO, Pawnee National Grassland Oil and Gas Leasing Analysis, Review Period Ends: 01/20/2015, Contact: Karen Roth 970-295-6621.

EIS No. 20140351, Final EIS, NPS, MO, Ozark National Scenic Riverways General Management Plan, Review Period Ends: 01/12/2015, Contact: Bill Black 573-323-4852.

EIS No. 20140352, Draft EIS, USFS, NV, Bordertown to California 120kV Transmission Line, Comment Period Ends: 01/26/2015, Contact: Marnie Bonesteel 775-352-1240.

EIS No. 20140353, Final EIS, NRC, MS, GENERIC—License Renewal of Nuclear Plants, Supplement 50, Regarding Grand Gulf Nuclear Station, Unit 1, Review Period Ends: 01/12/2015, Contact: David Drucker 301-415-6223.

EIS No. 20140354, Draft EIS, USACE, FL, South Central Palm Beach Island Comprehensive Shoreline Stabilization Project, Comment Period Ends: 01/26/2015, Contact: Garett Lips 561-674-2421.

EIS No. 20140355, Draft Supplement, FAA, UT, Cal Black Memorial Airport, Comment Period Ends: 01/26/2015, Contact: Janell Barrilleaux 425-227-2611.

EIS No. 20140356, Draft EIS, USCG, MARAD, NY, Port Ambrose Project Deepwater Port Application, Comment Period Ends: 02/10/2015, Contact: Roddy C. Bachman 202-372-1451 The U.S. Coast Guard and the U.S. Department of Transportation's Maritime Administration are joint lead agencies for the above project.

EIS No. 20140357, Final EIS, APHIS, 00, Monsanto Petitions (10-188-01p and 12-185-01p) for Determinations of Nonregulated Status for Dicamba-Resistant Soybean and Cotton Varieties, Review Period Ends: 01/12/2015, Contact: Sid Abel 301-851-3896.

Amended Notices

EIS No. 20140328, Draft Supplement, USFS, NM, North Fork Wells of Eagle Creek, Comment Period Ends: 01/13/2015, Contact: David M. Warnack 575-257-4095.

Revision to FR Notice Published 11/14/2014; Extending Comment Period from 12/29/2014 to 01/13/2015

Dated: December 9, 2014.
Dawn Roberts,
Management Analyst, NEPA Compliance Division, Office of Federal Activities.

[FR Doc. 2014-29196 Filed 12-11-14; 8:45 am]

BILLING CODE 6560-50-P